DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) reapprove the proposed information collection project: “Medical Expenditure Panel Survey—Insurance Component.” In accordance with the Paperwork Reduction Act, 44 U.S.C. 3501-3521, AHRQ invites the public to comment on this proposed information collection.

DATES: Comments on this notice must be received by August 10, 2015.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Medical Expenditure Panel Survey—Insurance Component

Employer-sponsored health insurance is the source of coverage for 79.3 million current and former workers, plus many of their family members, and is a cornerstone of the U.S. health care system. The Medical Expenditure Panel Survey—Insurance Component (MEPS-IC) measures on an annual basis the extent, cost, and coverage of employer-sponsored health insurance. These statistics are produced at the National, State, and sub-State (metropolitan area) level for private industry. Statistics are also produced for State and Local governments.

This research has the following goals:

(1) Provide data for Federal policymakers evaluating the effects of National and State health care reforms.

(2) Provide descriptive data on the current employer-sponsored health insurance system and data for modeling the differential impacts of proposed health policy initiatives.

(3) Supply critical State and National estimates of health insurance spending for the National Health Accounts and Gross Domestic Product.

(4) Support evaluation of the impact of the Affordable Care Act (ACA) on health insurance offered by all employers, and especially by small employers (due to the implementation of Small Business Health Options Program (SHOP) exchanges under the ACA), through the addition of a longitudinal component to the sample.

The MEPS-IC is conducted pursuant to AHRQ's statutory authority to conduct surveys to collect data on the cost, use and quality of health care, including types and costs of private insurance. 42 U.S.C. 299b-2(a).

Method of Collection

To achieve the goals of this project for both private sector and state and local government employers, the following data collections will be implemented:

(1) Prescreener Questionnaire—The purpose of the Prescreener Questionnaire, which is collected via telephone, varies depending on the insurance status of the establishment contacted (establishment is defined as a single, physical location in the private sector and a governmental unit in state and local governments.) For establishments that do not offer health insurance to their employees, the prescreener is used to collect basic information such as number of employees via a phone call. For establishments that do offer health insurance, the prescreener is used to collect contact names and address information that is used to mail a written establishment and plan questionnaires. Obtaining this contact information helps ensure that the questionnaires are directed to the person best equipped to complete them.

(2) Establishment Questionnaire—The purpose of the mailed Establishment Questionnaire is to obtain general information from employers who provide health insurance to their employees. This information includes total active enrollment in health insurance, other employee benefits, demographic characteristics of employees, and retiree health insurance.

(3) Plan Questionnaire—The purpose of the mailed Plan Questionnaire is to collect plan-specific information on each plan (up to four) offered by establishments that provide health insurance to their employees. This questionnaire asks about total premiums, employer and employee contributions to the premium, and plan enrollment for each type of coverage offered—single, employee-plus-one, and family—within a plan. It also asks for information on deductibles, copays, and other plan characteristics.

(4) 2016—2017 Longitudinal Sample—For 2016 and 2017, an additional sample of 7,000 employers will be included in the collection. This sample, called the Longitudinal Sample (LS), is designed to measure the impact of the ACA on employer sponsored health insurance and especially the impact of the SHOP exchanges on small employers. The 2016 LS will consist of 7,000 private-sector employers who responded to the 2015 MEPS-IC, and the 2017 LS will consist of 7,000 private-sector employers who responded to the 2016 MEPS-IC. These employers will be surveyed again in 2016 and 2017—using the same collection methods as the regular survey—in order to track changes in their health insurance offerings, characteristics, and costs.

The primary objective of the MEPS-IC is to collect information on employer-sponsored health insurance. Such information is needed in order to provide the tools for Federal, State, and academic researchers to evaluate current and proposed health policies and to support the production of important statistical measures for other Federal agencies.

Estimated Annual Respondent Burden

The estimated annualized respondent burden hours and costs for the regular MEPS-IC and the Longitudinal Sample are presented separately below.

2016-2017 RegularMEPS-IC

Exhibit 1a shows the estimated annualized burden hours for the respondent's time to participate in the MEPS-IC. The Prescreener questionnaire will be completed by 27,606 respondents and takes about 5½ minutes to complete. The Establishment questionnaire will be completed by 23,814 respondents and takes about 23 minutes to complete. The Plan questionnaire will be completed by 21,084 respondents and will require an average of 2.2 responses per respondent. Each Plan questionnaire takes about 11 minutes to complete. The total annualized burden hours are estimated to be 19,883 hours.

Exhibit 2a shows the estimated annualized cost burden associated with the respondents' time to participate in this data collection. The annualized cost burden is estimated to be $615,380.

Exhibit 1a—Estimated Annualized Burden Hours for the 2016-2017 MEPS-IC
Form name | Number of respondents | Number of responses per respondent | Hours per response | Total burden hours
Prescreener Questionnaire | 27,606 | 1 | 0.09 | 2,485
Establishment Questionnaire | 23,814 | 1 | * 0.38 | 9,049
Plan Questionnaire | 21,084 | 2.2 | 0.18 | 8,349
Total | 72,504 | na | na | 19,883
* The burden estimate printed on the establishment questionnaire is 45 minutes which includes the burden estimate for completing the establishment questionnaire, an average of 2.2 plan questionnaires, plus the prescreener. The establishment and plan questionnaires are sent to the respondent as a package and are completed by the respondent at the same time.

Exhibit 2a—Estimated Annualized Cost Burden for the 2016-2017 MEPS-IC
Form name | Number of respondents | Total burden hours | Average hourly wage rate * | Total cost burden
Prescreener Questionnaire | 27,606 | 2,485 | 30.95 | $76,911
Establishment Questionnaire | 23,814 | 9,049 | 30.95 | 280,067
Plan Questionnaire | 21,084 | 8,349 | 30.95 | 258,402
Total | 72,504 | 19,883 | na | 615,380
* Based upon the mean hourly wage for Compensation, Benefits, and Job Analysis Specialists occupation code 13-1141, at http://bls.gov/oes/current/oes131141.htm (U.S. Department of Labor, Bureau of Labor Statistics.)

2016-2017 Longitudinal Sample

Exhibit 1b shows the estimated annualized burden hours for the respondent's time to participate in the Longitudinal Sample. The Prescreener questionnaire will be completed by 4,517 respondents and takes about 5 ½ minutes to complete. The Establishment questionnaire will be completed by 4,023 respondents and takes about 23 minutes to complete. The Plan questionnaire will be completed by 3,487 respondents and will require an average of 2.2 responses per respondent. Each Plan questionnaire takes about 11 minutes to complete. The total annualized burden hours are estimated to be 3,317 hours.

Exhibit 2b shows the estimated annualized cost burden associated with the respondents' time to participate in this data collection. The annualized cost burden is estimated to be $102,662.

Exhibit 1b—Estimated Annualized Burden Hours for the 2016-2017 Longitudinal Sample (LS)
Form name | Number of respondents | Number of responses per respondent | Hours per response | Total burden hours
Prescreener Questionnaire (LS) | 4,517 | 1 | 0.09 | 407
Establishment Questionnaire (LS) | 4,023 | 1 | * 0.38 | 1,529
Plan Questionnaire (LS) | 3,487 | 2.2 | 0.18 | 1,381
Total | 12,027 | na | na | 3,317
* The burden estimate printed on the establishment questionnaire is 45 minutes which includes the burden estimate for completing the establishment questionnaire, an average of 2.2 plan questionnaires, plus the prescreener. The establishment and plan questionnaires are sent to the respondent as a package and are completed by the respondent at the same time.

Exhibit 2b—Estimated Annualized Cost Burden for the 2016-2017 Longitudinal Sample (LS)
Form name | Number of respondents | Total burden hours | Average hourly wage rate * | Total cost burden
Prescreener Questionnaire (LS) | 4,517 | 407 | $30.95 | $12,597
Establishment Questionnaire (LS) | 4,023 | 1,529 | 30.95 | 47,323
Plan Questionnaire (LS) | 3,487 | 1,381 | 30.95 | 42,742
Total | 12,027 | 3,317 | na | 102,662
* Based upon the mean hourly wage for Compensation, Benefits, and Job Analysis Specialists occupation code 13-1141, at http://bls.gov/oes/current/oes131141.htm (U.S. Department of Labor, Bureau of Labor Statistics.)

Request for Comments

In accordance with the Paperwork Reduction Act, comments on AHRQ's information collection are requested with regard to any of the following: (a) Whether the proposed collection of information is necessary for the proper performance of AHRQ health care research and information dissemination functions, including whether the information will have practical utility; (b) the accuracy of AHRQ's estimate of burden (including hours and costs) of the proposed collection(s) of information; (c) ways to enhance the quality, utility, and clarity of the information to be collected; and (d) ways to minimize the burden of the collection of information on respondents, including the use of automated collection techniques or other forms of information technology.

Comments submitted in response to this notice will be summarized and included in the Agency's subsequent request for OMB approval of the proposed information collection. All comments will become a matter of public record.

Dated: June 3, 2015.
Sharon B. Arnold,
Deputy Director.

[FR Doc. 2015-14197 Filed 6-10-15; 8:45 am]

BILLING CODE 4160-90-P